ENVIRONMENTAL PROTECTION AGENCY

[FRL-9942-60-Region 3]

Adequacy Status of the Baltimore 1997 8-Hour Ozone Standard Reasonable Further Progress Budgets for Volatile Organic Compounds and Nitrogen Oxides for 2012 for Transportation Conformity Purposes

AGENCY: Environmental Protection Agency (EPA).

ACTION: Notice of adequacy.

SUMMARY: In this notice, the Environmental Protection Agency (EPA) is notifying the public that EPA has found that the Baltimore 1997 8-hour ozone standard reasonable further progress budgets for volatile organic compounds (VOCs) and nitrogen oxides (NOX) for 2012 are adequate for transportation conformity purposes. As a result of EPA's finding, the Baltimore 1997 8-Hour Ozone Nonattainment Area must use these budgets for future conformity determinations.

DATES: This final rule is effective on March 8, 2016.

FOR FURTHER INFORMATION CONTACT: Gregory Becoat, Physical Scientist, Office of Air Program Planning (3AP30), United States Environmental Protection Agency, Region III, 1650 Arch Street, Philadelphia, PA 19103, (215) 814-2036; becoat.gregory@epa.gov.

SUPPLEMENTARY INFORMATION: On July 22, 2013, EPA received a State Implementation Plan (SIP) revision from Maryland Department of the Environment (MDE). This revision consisted of 2012 reasonable further progress (RFP) motor vehicle emission budgets (MVEBs) for the Baltimore 1997 8-Hour Ozone Nonattainment Area. This submission established MVEBs for the Baltimore 1997 8-Hour Ozone Nonattainment Area for the year 2012. The MVEBs are the amount of emissions allowed in the SIP for on-road motor vehicles; it establishes an emissions ceiling for the regional transportation network. The MVEBs are provided in Table 1:

Table 1—2012 RFP Mobile Budgets for the Baltimore NonAttainment Area
Year | Motor vehicle emissions budgets for NOX in tons per day | Motor vehicle emissions budgets for VOCs in tons per day
2012 | 93.5 | 40.2

On November 23, 2015, EPA posted the availability of the Baltimore 1997 8-Hour Ozone Nonattainment Area MVEBs on EPA's Web site for the purpose of soliciting public comments as part of the adequacy process. The comment period closed on November 23, 2015 and EPA received no comments.

Today's notice is simply an announcement of a finding that EPA has already made. EPA Region III sent a letter to MDE on January 14, 2016, finding that the 2012 RFP MVEBs in the Baltimore 1997 8-Hour Ozone Nonattainment Area SIP, submitted on July 22, 2013 by MDE, are adequate and must be used for transportation conformity determinations in the Baltimore 1997 8-Hour Ozone Nonattainment Area. The finding and associated letter is available at EPA's conformity Web site: http://www.epa.gov/otaq/stateresources/transconf/adequacy.htm.

Transportation conformity is required by section 176(c) of the Clean Air Act (CAA). EPA's conformity rule requires that transportation plans, transportation improvement programs, and projects conform to SIPs and establishes the criteria and procedures for determining whether or not they do. Conformity to a SIP means that transportation activities will not produce new air quality violations, worsen existing violations, or delay timely attainment of the national ambient air quality standards.

The criteria by which EPA determines whether a SIP's MVEBs are adequate for conformity purposes are outlined in 40 CFR 93.118(e)(4). EPA described the process for determining the adequacy of submitted SIP budgets in a July 1, 2004 preamble starting at 69 FR 40038 and used the information in these resources in making this adequacy determination. Please note that an adequacy review is separate from EPA's completeness review, and should not be used to prejudge EPA's ultimate approval action for the SIP. Even if EPA finds the budgets for the Baltimore 1997 8-Hour Ozone Nonattainment Area adequate, the SIP could later be disapproved. The finding and the response to comments are available at EPA's conformity Web site: http://www.epa.gov/otaq/stateresources/transconf/adequacy.htm.

Authority: 42 U.S.C. 7401-7671q.

Dated: February 4, 2016.
Shawn M. Garvin,
Regional Administrator, Region III.

[FR Doc. 2016-03609 Filed 2-19-16; 8:45 am]

BILLING CODE 6560-50-P